DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than February 2, 2001.

Interested persons are invited to submit written comments regarding the subject matter of the investigations to the Director, Division of Trade Adjustment Assistance, at the address shown below, not later than February 2, 2001.

The petitions filed in this case are available for inspection at the Office of the Director, Division of Trade Adjustment Assistance, Employment and Training Administration, U.S. Department of Labor, Room C-5311, 200 Constitution Avenue, NW., Washington, DC 20210.

Signed at Washington, DC this 26th day of December, 2000.
Edward A. Tomchick,
Director, Division of Trade Adjustment Assistance.

Appendix
[Petitions Instituted on 12/26/2000]
TA-W | Subject firm (Petitioners) | Location | Date of petition | Product(s)
38,458 | Country Roads, Inc. (Comp) | Greenville, MI | 12/11/2000 | Restoration Products.
38,459 | Pennsylvania Foundry (USWA) | Hamburg, PA | 12/08/2000 | Steel Castings.
38,460 | Crompton and Knowles (IUE) | Nutley, NJ | 12/05/2000 | Organic Dyes.
38,461 | Oxford Automotive (UAW) | Argos, IN | 12/07/2000 | Service Parts.
38,462 | Pangborn Corp. (UAW) | Hagerstown, MD | 12/07/2000 | Blast Cleaning Equipment.
38,463 | Quality Veneer and Lumber (IAMAW) | Hoquiam, WA | 12/07/2000 | Dimension Lumber.
38,464 | Carolina Narrow Fabric (Wrks) | Sparta, NC | 12/06/2000 | Medical Fabric Gauze, Plaster Wrap.
38,465 | Cookson Semiconductor (Wrks) | Warwick, RI | 12/08/2000 | Conductive & Non-Conductive films.
38,466 | Armtex, Inc., Surry (Comp) | Pilot Mountain, NC | 12/08/2000 | Knitted Apparel.
38,467 | MDF Moulding and Millwork (Comp) | Las Vegas, NM | 12/06/2000 | Mouldings and Millwork.
38,468 | J and L Structural, Inc. (USWA) | Aliquippa, PA | 12/08/2000 | Semi-Finished Billets.
38,469 | Gile Orchards (Comp) | Alfred, ME | 12/15/2000 | Apples and Cider.
38,470 | Plum Creek Manufacturing (Wkrs) | Pablo, MT | 12/04/2000 | Lumber Boards.
38,471 | Dura Automotive Systems (Comp) | East Jordan, MI | 12/06/2000 | Parking Brake Actuator.
38,472 | Mid-American Electro-Cord (Comp) | Decatur, AL | 12/12/2000 | Cordsets.
38,473 | Software Spectrum (Wrks) | Garland, TX | 12/12/2000 | Technical Support for Windows 95/98.
38,474 | Honeywell Aerospace (UAW) | Teterboro, NJ | 11/30/2000 | Avionics & Aerospace Electronics.
38,475 | Ames-Tru Temper (USWA) | Davisville, WV | 12/05/2000 | Lawn and Garden Tools.
38,476 | Raider Apparel Inc. (Comp) | Alma, GA | 12/11/2000 | Ladies' Sportswear.
38,477 | Gilison Knitwear (Comp) | Hicksville, NY | 12/12/2000 | Men's Sweaters.
38,478 | Mother Parker's Tea (Wrks) | Amherst, NY | 12/05/2000 | Coffee Singles.
38,479 | Eel River Sawmills, Inc (Comp) | Fortuna, CA | 12/06/2000 | Lumber.
38,480 | Delavan Spray Tech. (Comp) | Monroe, NC | 12/12/2000 | Precision Nozzles.
38,481 | B.F. Goodrich Aerospace (Wrks) | Cedar Knolls, NJ | 11/27/2000 | Actvators, Missiles.
38,482 | Augusta Sportswear, Inc. (Comp) | Millen, GA | 12/06/2000 | Sportswear.
38,483 | Saputo Cheese USA (IBT) | Thorp, WI | 12/11/2000 | Blue Cheese and Gorgonzola Cheese.
38,484 | Saputo Cheese USA (IBT) | Monroe, WI | 12/11/2000 | Cheese.
38,485 | Forecaster of Boston (UNITE) | Boston, MA | 12/07/2000 | Ladies' Winter Coats.
38,486 | Tyco Electronics (Wrks) | Irvine, CA | 12/11/2000 | Electronics Connectors.
38,487 | Stanley Access Tech (IAMAW) | Farmington, CT | 12/07/2000 | Automatic Doors.
38,488 | Cone Decorative Fabrics (Wrks) | New York, NY | 12/04/2000 | Fabrics—Home Furnishings.

[FR Doc. 01-1904 Filed 1-22-01; 8:45 am]

BILLING CODE 4510-30-M